FEDERAL COMMUNICATIONS COMMISSION

[WC Docket No. 10-90, WT Docket No. 10-208; DA 17-926; DA 17-975]

Instructions for Filing 4G LTE Coverage Data To Determine Areas Presumptively Eligible for Mobility Fund Phase II Support; Contact Information Due by October 23, 2017; Responses Due by January 4, 2018

AGENCY: Federal Communications Commission.

ACTION: Notification of filing instructions; deadlines for filing responses and providing contact information.

SUMMARY: In these documents, the Rural Broadband Auctions Task Force, and the Wireline Competition and the Wireless Telecommunications Bureau (Bureaus), provide instructions for filing 4G Long Term Evolution (LTE) coverage data pursuant to the MF-II Challenge Process Order, announce that the Commission has published a notice of the Office of Management and Budget's (OMB) approval of this information collection in the Federal Register, and announce the deadlines by which subject entities must submit contact information and file responses to this information collection.

DATES: Contact information due by October 23, 2017; responses to information collection due by January 4, 2018.

FOR FURTHER INFORMATION CONTACT: Ken Lynch at (202) 418-7356 or Ben Freeman at (202) 418-0628, or email ltedata@fcc.gov.

SUPPLEMENTARY INFORMATION: This is a summary of the Public Notice, Instructions for Filing 4G LTE Coverage Data to Determine Areas Presumptively Eligible for Mobility Fund II Support (4G LTE Coverage Data Instructions Public Notice), WC Docket No. 10-90, WT Docket No. 10-208, DA 17-926, released on September 22, 2017, and the Public Notice, Responses to the Mobility Fund Phase II Data Collection Are Due January 4, 2018, WC Docket No. 10-90, WT Docket No. 10-208, DA 17-975 released October 6, 2017. The complete text of these documents is available for public inspection and copying during normal business hours in the FCC Reference Information Center, 445 12th Street SW., Room CY-A257, Washington, DC 20554, or by downloading the text from the Federal Communications Commission's (Commission) Web site at http://transition.fcc.gov/Daily_Releases/Daily_Business/2017/db0926/DA-17-926A1.pdf and http://transition.fcc.gov/Daily_Releases/Daily_Business/2017/db1006/DA-17-975A1.pdf. Alternative formats are available to persons with disabilities (Braille, large print, electronic files, audio format) by sending an email to FCC504@fcc.gov or by calling the Consumer & Governmental Affairs Bureau at (202) 418-0530 (voice), (202) 418-0432 (TTY).

On August 3, 2017, the Commission adopted the MF-II Challenge Process Order (FCC 17-102), which established the procedures for a robust challenge process to ensure that the Commission targets Mobility Fund Phase II (MF-II) support to areas that lack unsubsidized 4G LTE service. The MF-II Challenge Process Order adopted parameters for a one-time collection of 4G LTE coverage data that the Commission will use, in conjunction with subsidy data, to establish the map of areas presumptively eligible for MF-II support. The instructions attached to the 4G LTE Coverage Data Collection Public Notice fulfill the directive in the MF-II Challenge Process Order that the Bureaus provide filing instructions, including data specifications, formatting information, and any other necessary technical parameters for the collection, and provide the detailed information filers will need to generate and submit their 4G LTE coverage data—specifically, who must file, what must be filed, when to file, and how to file. The provider-specific information submitted as part of the data collection will be treated as confidential.

Entities subject to this information collection must submit contact information for this collection using the template posted at https://www.fcc.gov/MF2-LTE-Collection by October 23, 2017. Such entities must collect and submit their responses to this information collection using the process and format described in the instructions attached to the 4G LTE Coverage Data Collection Public Notice no later than January 4, 2018, which is 90 days after the date on which the Commission published notice in the Federal Register of the Office of Management and Budget's approval of this information collection (see 82 FR 46494 (Oct. 5, 2017)).

Additional information about this data collection can be found on the Commission's MF-II 4G LTE Data Collection Web page at www.fcc.gov/MF2-LTE-Collection.

Federal Communications Commission.
William Huber,
Associate Chief, Auctions and Spectrum Access Division, WTB.

[FR Doc. 2017-22453 Filed 10-16-17; 8:45 am]

BILLING CODE 6712-01-P